DEPARTMENT OF TRANSPORTATION

Federal Aviation Administration

14 CFR Part 39

[Docket No. 2002-NM-38-AD; Amendment 39-12714; AD 2002-08-06]

RIN 2120-AA64

Airworthiness Directives; Boeing Model 777-200 and -300 Series Airplanes

AGENCY: Federal Aviation Administration, DOT.

ACTION: Final rule; correction.

SUMMARY: This document corrects information in an existing airworthiness directive (AD) that applies to certain Boeing Model 777-200 and -300 series airplanes. That AD currently requires a one-time torque check (inspection) of the bolts that attach the pivot fittings to the horizontal stabilizer through the upper and lower titanium straps, to determine if the bolts are adequately torqued, and follow-on actions. This document corrects the requirements of the existing AD by adding an option to allow operators a 30-day grace period for submission of the report required by paragraph (d) of the AD. This correction is prompted by communication received from the manufacturer that the current requirements of the AD could put operators out of compliance.

DATES: Effective May 3, 2002.

The incorporation by reference of certain publications listed in the regulations was approved previously by the Director of the Federal Register as of May 3, 2002 (67 FR 19104, April 18, 2002).

FOR FURTHER INFORMATION CONTACT: John Craycraft, Aerospace Engineer, Airframe Branch, ANM-120S, FAA, Seattle Aircraft Certification Office, 1601 Lind Avenue, SW., Renton, Washington 98055-4056; telephone (425) 227-2782; fax (425) 227-1181.

SUPPLEMENTARY INFORMATION: On April 11, 2002, the Federal Aviation Administration (FAA) issued AD 2002-08-06, amendment 39-12714 (67 FR 19104, April 18, 2002), applicable to certain Boeing Model 777-200 and -300 series airplanes. That AD requires a one-time torque check (inspection) of the bolts that attach the pivot fittings to the horizontal stabilizer through the upper and lower titanium straps, to determine if the bolts are adequately torqued, and follow-on actions. The actions required by that AD are intended to prevent failure of the pivot fittings, which could result in loss of control of the horizontal stabilizer and consequent loss of control of the airplane.

Need for the Correction

Information obtained recently from the manufacturer indicates that the compliance time for the reporting requirement in paragraph (d) of AD 2002-08-06 does not allow operators who have already done the inspection required by paragraph (a) of the AD enough time to submit the required information.

The FAA has determined that a correction to AD 2002-08-06 is necessary. The correction will add an option to allow operators a 30-day grace period for submission of the reporting requirements specified in paragraph (d) of the AD. The correction will add sub-paragraphs (d)(1) and (d)(2) to the AD to include that option.

Correction of Publication

This document corrects the error and correctly adds the AD as an amendment to section 39.13 of the Federal Aviation Regulations (14 CFR 39.13).

The AD is reprinted in its entirety for the convenience of affected operators. The effective date of the AD remains May 3, 2002.

Since this action only corrects a current requirement, it has no adverse economic impact and imposes no additional burden on any person. Therefore, the FAA has determined that notice and public procedures are unnecessary.

List of Subjects in 14 CFR Part 39

Air transportation, Aircraft, Aviation safety, Incorporation by reference, Safety.

Adoption of the Correction

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Corrected]

2. Section 39.13 is amended by correctly adding the following airworthiness directive (AD):

2002-08-06 Boeing: Amendment 39-12714. Docket 2002-NM-38-AD.

Applicability: Model 777-200 and -300 series airplanes as listed in Boeing Alert Service Bulletin 777-55A0013, Revision 1, dated January 31, 2002; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

Compliance: Required as indicated, unless accomplished previously.

To prevent failure of the pivot fittings of the horizontal stabilizer, which could result in loss of control of the horizontal stabilizer and consequent loss of control of the airplane, accomplish the following:

Torque Check (Inspection)

(a) Within 90 days after the effective date of this AD, do the following inspections of the aft bolts of the pivot fittings attached to the horizontal stabilizer, per the Accomplishment Instructions of Boeing Alert Service Bulletin 777-55A0013, Revision 1, dated January 31, 2002:

(1) Do a torque check (inspection) to determine if the bolts are adequately torqued per the service bulletin.

(2) Do a detailed inspection of the bolt thread protrusion through the nut. Replace any bolt that has less than the chamfer of the bolt or more than three threads protruding through the nut per Steps 6.d. and 6.e. or Steps 7.d. and 7.e. of the Work Instructions of the service bulletin for Group 1 or Group 2 airplanes, as applicable.

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Note 3: For Group 1 airplanes and Group 2 airplanes with WBnnn variable numbers (where nnn is any three digits), inspections and follow-on actions done before the effective date of this AD per Boeing Service Bulletin 777-55A0013, dated December 19, 2001, are considered acceptable for compliance with the corresponding actions specified in paragraph (a)(1) of this AD.

1

Follow-On Actions

(3) Do Steps 8. and 9. of the Work Instructions in Part B of the service bulletin, if the torque value of all attachment bolts is found to be within the specified limits, then no further action is required by this AD.

(b) During the inspection required by paragraph (a)(1) of this AD, if the torque value of any attachment bolt is found to be less than or equal to the value specified in Step 4. of the Work Instructions of Boeing Alert Service Bulletin 777-55A0013, Revision 1, dated January 31, 2002: Before further flight, do all actions (includes removing the nut and measuring run-on torque; replacing any nut that does not meet the run-on torque requirements; doing a visual inspection for indications of galling, fretting, and wear; replacing the bolt if any discrepancies are found; and doing an open-hole high frequency eddy current (HFEC) inspection for cracks); as specified in and per Steps 5., 6., and 7., as applicable, of the Work Instructions of Boeing Alert Service Bulletin 777-55A0013, Revision 1, dated January 31, 2002, for Group 1 or Group 2 airplanes, as applicable.

(c) If any cracking is found during the HFEC inspection and the service bulletin specifies contacting Boeing for repair instructions: Before further flight, repair per a method approved by the Manager, Seattle Aircraft Certification Office (ACO), FAA; or per data meeting the type certification basis of the airplane approved by a Boeing Company Designated Engineering Representative who has been authorized by the Manager, Seattle ACO, to make such findings. For a repair method to be approved by the Manager, Seattle ACO, as required by this paragraph, the Manager's approval letter must specifically reference this AD.

Reporting Requirement

(d) After doing the inspections required by paragraph (a) of this AD: Submit a report of the bolt torque values and run-on torque values of the nut, and/or any damaged areas found, to the FAA Certification Management Office—Boeing, ANM-108B, 1601 Lind Avenue, SW., Renton, Washington 98055-4056, at the applicable time specified in paragraph (d)(1) or (d)(2) of this AD. Information collection requirements contained in this AD have been approved by the Office of Management and Budget (OMB) under the provisions of the Paperwork Reduction Act of 1980 (44 U.S.C. 3501 et seq.) and have been assigned OMB Control Number 2120-0056.

(1) For airplanes on which the inspection is done after the effective date of this AD: Submit the report within 10 days after doing the inspection.

(2) For airplanes on which the inspection was done before the effective date of this AD: Submit the report within 30 days after the effective date of this AD.

Alternative Methods of Compliance

(e) An alternative method of compliance or adjustment of the compliance time that provides an acceptable level of safety may be used if approved by the Manager, Seattle ACO. Operators shall submit their requests through an appropriate FAA Principal Maintenance Inspector, who may add comments and then send it to the Manager, Seattle ACO.

Note 4: Information concerning the existence of approved alternative methods of compliance with this AD, if any, may be obtained from the Seattle ACO.

Special Flight Permits

(f) Special flight permits may be issued in accordance with sections 21.197 and 21.199 of the Federal Aviation Regulations (14 CFR 21.197 and 21.199) to operate the airplane to a location where the requirements of this AD can be accomplished.

Incorporation by Reference

(g) Except as provided by paragraph (c) of this AD, the actions shall be done in accordance with Boeing Alert Service Bulletin 777-55A0013, Revision 1, dated January 31, 2002. This incorporation by reference was approved previously by the Director of the Federal Register in accordance with 5 U.S.C. 552(a) and 1 CFR part 51 as of May 3, 2002 (67 FR 19104, April 18, 2002). Copies may be obtained from Boeing Commercial Airplane Group, P.O. Box 3707, Seattle, Washington 98124-2207. Copies may be inspected at the FAA, Transport Airplane Directorate, 1601 Lind Avenue, SW., Renton, Washington; or at the Office of the Federal Register, 800 North Capitol Street, NW., Suite 700, Washington, DC.

Effective Date

(h) The effective date of this amendment remains May 3, 2002.

Issued in Renton, Washington, on May 23, 2002.
Ali Bahrami,
Acting Manager, Transport Airplane Directorate, Aircraft Certification Service.

[FR Doc. 02-13607 Filed 5-30-02; 8:45 am]

BILLING CODE 4910-13-P